DEPARTMENT OF THE INTERIOR

Bureau Of Land Management

[LLORB07000.L17110000.AL0000.LXSSH1060000.20X.HAG 20-0060]

Notice of Meeting for the Steens Mountain Advisory Council's Public Lands Access Subcommittee, Oregon

AGENCY: Bureau of Land Management, Interior.

ACTION: Notice of teleconference meeting.

SUMMARY: In accordance with the Federal Land Policy and Management Act of 1976 and the Federal Advisory Committee Act of 1972, the U.S. Department of the Interior, Bureau of Land Management's (BLM) Steens Mountain Advisory Council's (SMAC) Public Lands Access Subcommittee will meet as indicated below.

DATES: The Public Lands Access Subcommittee of the SMAC will hold a teleconference meeting on Wednesday, December 16, 2020, from 11:00 a.m. to 3:30 p.m.

ADDRESSES: The meeting will be held via teleconference. The final agenda and meeting access information will be available on the SMAC website no later than November 16, 2020, at https://www.blm.gov/get-involved/resource-advisory-council/near-you/oregon-washington/steens-mac.

FOR FURTHER INFORMATION CONTACT: Tara Thissell, Public Affairs Specialist, 28910 Highway 20 West, Hines, Oregon 97738; 541-573-4519; tthissell@blm.gov. Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The SMAC was established August 14, 2001, pursuant to the Steens Mountain Cooperative Management and Protection Act of 2000 (Steens Act) (Pub. L. 106-399). The SMAC provides recommendations to the BLM regarding new and unique approaches to management of the land within the bounds of the Steens Mountain Cooperative Management and Protection Area (CMPA); recommends cooperative programs and incentives for landscape management that meet human needs; and advises the BLM on potential maintenance and improvement of the ecological and economic integrity of the area.

The SMAC's Public Lands Access Subcommittee was established in 2015 and serves to research, discuss, and evaluate any public access issue in the Steens Mountain CMPA. Issues may relate to parking, hiking, motorized or non-motorized use, public to private land inholding routes and methods of travel, private to public land access by way of easement or other agreement, or purchase or exchange of public and private land for improved access and contiguous landscape. The Subcommittee reviews all aspects of any access issue, formulates suggestions for remedy, and proposes those solutions to the entire SMAC for further discussion and possible recommendation to the BLM.

The December 16 agenda includes an update from the Designated Federal Officer; discussion on the SMAC's definition of “reasonable access”; an update on the Nature's Advocate Inholder Access Environmental Assessment (EA); a discussion on the Pike Creek Parking Area EA; information sharing about Travel Management Planning for the Steens Mountain area; and an opportunity for Subcommittee members to share information from their constituents and present research. Any other matters that may reasonably come before the Subcommittee may also be included.

A public comment period is available at 2:30 p.m. Depending on the number of people wishing to comment and the time available, the amount of time for oral comments may be limited. Sessions may end early if all business items are accomplished ahead of schedule, or may be extended if discussions warrant more time. All meetings, including this Zoom videoconference, are open to the public in their entirety.

Public Disclosure of Comments: Before including your address, phone number, email address, or other personal identifying information in your comments, please be aware that your entire comment—including your personal identifying information—may be made publicly available at any time. While you can ask us in your comment to withhold your personal identifying information from public review, we cannot guarantee that we will be able to do so.

Authority: 43 CFR 1784.4-2.

Jeff Rose,
District Manager.

[FR Doc. 2020-25366 Filed 11-17-20; 8:45 am]

BILLING CODE 4310-33-P